DEPARTMENT OF ENERGY

Federal Energy Regulatory Commission

[Docket No. CP07-457-000]

Iroquois Gas Transmission System, L.P.; Notice of Filing

October 16, 2007.

Take notice that on September 28, 2007, and supplemented on October 15, 2007, Iroquois Gas Transmission System, L.P. (Iroquois), One Corporate Drive, Suite 600, Shelton, CT 06484-6211, filed an abbreviated application pursuant to section 7(c) of the Natural Gas Act (NGA) and part 157 of the Commission's Rules and Regulations, for a certificate of public convenience and necessity to construct and operate the 08/09 Expansion Project (Project) in New York and Connecticut. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Iroquois requests authority to construct and operate: (1) Three sections of new, 36-inch diameter pipeline looping and associated above ground facilities along its existing mainline in New York and Connecticut; (2) a new compressor station, 10,300 horsepower, in Milford, Connecticut; and (3) additional compression, 10,300 horsepower, and cooling facilities at the Brookfield compressor station in Brookfield, Connecticut. Iroquois also seeks a predetermination that the rates applicable to the 08/09 Expansion project to be rolled in with Iroquois' existing Eastchester Expansion Project rate case following the in-service date for the proposed facilities in which the Eastchester rates are subject to change. The estimated cost of the Project is approximately $163,000,000. Iroquois proposes the in-service date, under Phase I, of November 1, 2008.

Any questions regarding the application are to be directed to Paul W. Diehl, Senior Attorney, Iroquois Pipeline Operating Company, One Corporate Drive, Suite 600, Shelton, CT 06484, phone number (203) 925-7228.

On March 23, 2007, the Commission staff granted Iroquois's request to utilize the National Environmental Policy Act (NEPA) Pre-Filing Process and assigned Docket No. PF07-7-000 to staff activities involving the Market Access Project. Now, as of the filing of this application on September 28, 2007, the NEPA Pre-Filing Process for this project has ended. From this time forward, this proceeding will be conducted in Docket No. CP07-457-000, as noted in the caption of this Notice.

Pursuant to section 157.9 of the Commission's rules, 18 CFR 157.9, within 90 days of this Notice the Commission staff will either: Complete its environmental assessment (EA) and place it into the Commission's public record (eLibrary) for this proceeding, or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be file on or before the comment date. Anyone filing a motion to intervene or protest must serve a copy of that document on the Applicant. On or before the comment date, it is not necessary to serve motions to intervene or protests on persons other than the Applicant.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission encourages electronic submission of protests and interventions in lieu of paper using the “eFiling” link at http://www.ferc.gov. Persons unable to file electronically should submit an original and 14 copies of the protest or intervention to the Federal Energy Regulatory Commission, 888 First Street, NE., Washington, DC 20426.

Comment Date: 5 p.m. Eastern Time on November 6, 2007.

Kimberly D. Bose,
Secretary.

[FR Doc. E7-20877 Filed 10-23-07; 8:45 am]

BILLING CODE 6717-01-P